DEPARTMENT OF COMMERCE

Foreign-Trade Zones Board

[B-58-2014]

Foreign-Trade Zone (FTZ) 7—Mayaguez, PR; Authorization of Production Activity, Neolpharma, Inc., Subzone 7O (Pharmaceutical Products); Caguas, PR

On August 12, 2014, the Puerto Rico Industrial Development Company, grantee of FTZ 7, submitted a notification of proposed production activity to the Foreign-Trade Zones (FTZ) Board on behalf of Neolpharma, Inc., located within Subzone 7O, in Caguas, Puerto Rico.

The notification was processed in accordance with the regulations of the FTZ Board (15 CFR part 400), including notice in the Federal Register inviting public comment (79 FR 48726-48727, 08-18-2014). The FTZ Board has determined that no further review of the activity is warranted at this time. The production activity described in the notification is authorized, subject to the FTZ Act and the Board's regulations, including Section 400.14.

Dated: December 10, 2014.
Andrew McGilvray,
Executive Secretary.

[FR Doc. 2014-29341 Filed 12-12-14; 8:45 am]

BILLING CODE 3510-DS-P